DEPARTMENT OF TRANSPORTATION

Office of the Secretary

Notice of Applications for Certificates of Public Convenience and Necessity and Foreign Air Carrier Permits Filed Under Subpart B (Formerly Subpart Q) During the Week Ending December 12, 2003

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-16677.

Date Filed: December 9, 2003.

Due Date for Answers, Conforming Applications, or Motion to Modify Scope: December 30, 2003.

Description: Application of Flight One Airline USA, pursuant to 49 U.S.C. 41102 and subpart B, requesting a certificate of public convenience and necessity authorizing foreign scheduled air transportation of persons, property, and mail.

Docket Number: OST-2003-16716.

Date Filed: December 12, 2003.

Due Date for Answers, Conforming Applications, or Motion to Modify Scope: January 2, 2004.

Description: Application of Blackstar Airlines Corporation, pursuant 49 U.S.C. 41102 and subpart B, requesting a certificate of public convenience and necessity to engage in foreign scheduled air transportation of persons, property and mail.

Docket Number: OST-2003-16717.

Date Filed: December 12, 2003.

Due Date for Answers, Conforming Applications, or Motion to Modify Scope: January 2, 2004.

Description: Application of Blackstar Airlines Corporation, pursuant to 49 U.S.C. 41102 and subpart B, requesting a certificate of public convenience and necessity to engage in interstate scheduled air transportation of persons, property, and mail.

Andrea M. Jenkins,
Program Manager, Docket Operations, Federal Register Liaison.

[FR Doc. 03-31885 Filed 12-24-03; 8:45 am]

BILLING CODE 4910-62-P